DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has granted or denied the application described herein.

DATES: Comments must be received on or before July 14, 2025.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on June 2, 2025.
Donald P. Burger,
Chief, General Approvals and Permits Branch.

Special Permits Data—Granted
Application No. | Applicant | Regulation(s) affected | Nature of the special permits thereof
14163-M | Air Liquide Electronics U.S. LP | 173.301(g)(1)(ii) | To modify the special permit to authorize an additional hazardous material (UN2193).
14287-M | Troxler Electronic Laboratories, Inc | 173.469, 173.476(a), 173.415 | To modify the special permit to authorize additional gauges.
21005-M | Federal Cartridge Company | 173.63(b) | To modify the special permit to increase the number of articles authorized to be packed per inner packaging to 20.
21318-M | Mercedes-Benz AG | 172.101(j) | To modify the special permit to authorize an additional battery and packaging types.
21467-M | General Motors LLC | 172.101(j) | To modify the special permit to authorize a higher maximum weight limit.
21664-M | Champion Container Corporation | 173.158(f)(3) | To modify the special permit to authorize an additional packaging.
21922-N | Archer Aviation Inc | 172.101(j), 173.185(e) | To authorize the transportation in commerce of prototype lithium batteries exceeding 35 kg via cargo-only aircraft.
21955-N | United States Dept. of Energy | 173.211 | To authorize the transportation in commerce of articles containing Sodium using an alternative packaging scheme.
21965-N | Shijiazhuang Enric Gas Equipment Co., Ltd | 178.45(i)(2) | To authorize the manufacture, mark, sale, and use of specification DOT 3T cylinders using an alternative test lot size.
21970-M | Call2Recycle, Inc | 173.185(f) | To authorize the one-way transportation of damaged lithium ion batteries for disposal and/or recycling in UN specification packagings containing more than one battery module per package.
21977-N | United States Dept. of Energy | 172.102(c)(3), 172.102(c)(5), 173.211, 173.244 | To authorize the transportation in commerce of sodium packaged in certain non-DOT specification non-bulk and bulk packagings.
21986-N | Space BD Inc | 173.185(a)(1) | To authorize the transportation in commerce of prototype and low production lithium ion batteries.
21987-N | Space BD Inc | 173.185(a)(1) | To authorize the transportation in commerce of prototype and low production lithium ion batteries contained in equipment (satellites).
22004-N | VFT, LLC | 172.101(j)(1), 172.200, 172.300, 172.400 | To authorize the transportation in commerce of certain hazardous materials by 14 CFR Part 133 cargo-only aircraft (rotorcraft external load operations.
22018-N | Lucid USA, Inc | 172.301(c), 173.21(c) | To authorize the transportation in commerce of a damaged electric vehicle containing a lithium ion battery.
Special Permits Data—Denied
21811-N | CMB Aerosols (UK) PLC | 173.306(a)(3), 178.33-7, 178.33a-7 | To authorize the manufacture, mark, sale, and use of non-DOT specification containers conforming with all regulations applicable to DOT specification 2P or 2Q inner metal receptacle except for wall thickness, for the transportation in commerce of certain Division 2.1 and 2.2 aerosols.
21941-N | Colorado Fey Innovations | 173.306(a), 180.209 | To authorize the manufacture, mark, sale, and use of non-DOT specification cylinders, like DOT 3E specification cylinders, for the transport of non-liquefied compressed gases.
Special Permits Data—Withdrawn
21144-M | Consolidated Nuclear Security LLC | 173.56(b) | To modify the special permit to waive certain marking requirements and to exempt the hazardous material from Class 3 desensitized explosive requirements.
21936-M | Electronic Fluorocarbons, LLC | 171.23(a)(3), 171.23(b)(10)(ii), 172.101(i) | To modify the special permit to authorize additional drum serial numbers.
21950-N | Veolia ES Technical Solutions, LLC | 172.320, 173.56(b) | To authorize the transportation in commerce of unapproved pyrotechnic materials for the purpose of disposal.
21951-N | Busek Co., Inc | 173.301(f)(1), 178.35(e) | To authorize the transportation in commerce of non-DOT specification cylinder containing xenon, compressed within a propulsion system where the cylinder is not equipped with a Pressure Relief Device (PRD).
21974-N | Sawtooth Flying Service, Inc. | 172.101(l)(3), 172.200, 173.202(c), 175.33, 175.75(b) | To authorize the transportation in commerce of cylinders containing certain Division 2.1 gases and Class 3 hazardous materials that are forbidden aboard passenger-carrying aircraft, in remote areas when no other means of transportation is available and without shipping papers.
21988-N | Pag Holdings, LLC | 178.1030 | To authorize the transportation in commerce of non-specification flexible intermediate bulk containers that do not conform to all applicable specification FIBC requirements in 49 CFR Part 178.
22013-N | Pine Island Chemical Solutions, LLC | 177.834(h) | To authorize the discharge of certain Class, 3, Division 6.1, Class 8, and Class 9 liquids from a DOT specification drum and Intermediate Bulk Containers (IBC) without removing the drum and IBC from the vehicle on which they are transported.
22016-N | Coreshell Technologies, Incorporated | 173.185(a)(1) | To authorize the transportation in commerce of prototype lithium cells via cargo-only aircraft.

[FR Doc. 2025-10723 Filed 6-11-25; 8:45 am]

BILLING CODE 4910-60-P